DEPARTMENT OF COMMERCE

National Oceanic and Atmospheric Administration

[I.D. 032006D]

Fisheries Off West Coast States and in the Western Pacific; Pelagic Fisheries; Overfishing Determination on Yellowfin Tuna; Western and Central Pacific Ocean

AGENCY: National Marine Fisheries Service (NMFS), National Oceanic and Atmospheric Administration (NOAA), Commerce.

ACTION: Notice of overfishing determination.

SUMMARY: This action serves as notice that NMFS, on behalf of the Secretary of Commerce, has determined that overfishing is occurring on the yellowfin tuna (Thunnus albacares) stock in the western and central Pacific Ocean (WCPO), and requests that the Western Pacific Fishery Management Council (Council) address this overfishing condition pursuant to the Magnuson-Stevens Fishery Conservation and Management Act. The intent of this action is to notify interested persons that yellowfin tuna is undergoing overfishing in the WCPO.

SUPPLEMENTARY INFORMATION: The following reprint of the March 16, 2006, letter from NMFS to the Council notifies the Council of a determination that overfishing is occurring on the yellowfin tuna stock in the WCPO, provides background on how NMFS made the determination, provides the legal basis for the Council to act in response to a determination that overfishing is occurring, and requests the Council to take appropriate action to address the overfishing condition.

Mr. Frank McCoy, Sr.,

Chairperson,

Western Pacific Fishery Management Council, 1164 Bishop Street, Suite 1400, Honolulu, HI 96813.

Dear Chairman McCoy:

By this letter, NOAA's National Marine Fisheries Service (NMFS), on behalf of the Secretary of Commerce, notifies the Western Pacific Fishery Management Council (Council) that overfishing is occurring on the yellowfin tuna (Thunnus albacares) stock in the western and central Pacific Ocean (WCPO). NMFS requests the Council to take appropriate action pursuant to section 304(e) of the Magnuson-Stevens Fishery Conservation and Management Act (MSA).

According to Amendment 8 Supplement to the Fishery Management Plan for Pelagic Fisheries of the Western Pacific Region (Pelagics FMP), effective July 3, 2003 (68 FR 46112, August 5, 2003), the maximum fishing mortality threshold (MFMT) for stocks managed under the Pelagics FMP would be exceeded if the fishing mortality rate exceeded the rate associated with maximum sustainable yield (MSY). The most recent stock assessment (August 2005) on WCPO yellowfin tuna by the Scientific Committee of the Commission for the Conservation and Management of Highly Migratory Fish Stocks in the Western and Central Pacific Ocean, indicates that the then-current rate of fishing mortality (Fcurrent) is likely to be in excess of the rate associated with MSY (FMSY). For the base case analysis, the assessment results indicate an Fcurrent/FMSY ratio of 1.22 with a range from 1.0 to 2.33 for the four analyses using alternative sets of assumptions¹.

¹ Hampton, J., P. Kleiber, A. Langley, Y. Takeuchi, and M. Ichinokawa. 2005. Stock assessment of yellowfin tuna in the western and central Pacific Ocean. WCPFC-SA WP-1, 1st Meeting of the Scientific and Committee of the Western and Central Pacific Fisheries Commission, WCPFC-SC1, Noumea, New Caledonia, 8-19 August 2005. July 2005. 79p.

The latest estimate of Fcurrent/FMSY (1.22) for WCPO yellowfin tuna in 2005 was substantially higher than in the 2004 assessment (0.63) ². Scientists at the NMFS Pacific Islands Fisheries Science Center (PIFSC) consider the 2005 assessment model to be an improvement over the 2004 model, and the results to be more reliable. Based on these assessment results and relying on the expertise and advice of the PIFSC Director (October 28, 2005), NMFS has determined that overfishing of the WCPO yellowfin tuna stock is occurring.

² Hampton, J., P. Kleiber, A. Langley, and K. Hiramatsu. 2004. Stock assessment of yellowfin tuna in the western and central Pacific Ocean. WCPF SCTB17 Working Paper SA-1. 17th Meeting of the Standing Committee on Tuna and Billfish, Majuro, Marshall Islands, 9-18 August 2004. July 2004. 74 p.

The Pacific-wide distribution of yellowfin tuna and the scope of fisheries (international and domestic) exploiting this important species dictate that the U.S. government pursue a strategy to end overfishing through the relevant Regional Fisheries Management Organization, in this instance, the Western and Central Pacific Fisheries Commission (WCPFC). The entire U.S. harvest of yellowfin tuna in the WCPO is only about 4% of the total WCPO catch and the majority of the U.S. harvest is by purse seine vessels fishing within the EEZs of Pacific Island nations (under the authority of the South Pacific Tuna Treaty) or on the high seas. NMFS welcomes the Council's participation as a member of the U.S. Delegation to the WCPFC and looks forward to working with the Council to develop and implement domestic management measures necessary to implement WCPFC decisions. According to Section 304(e) of the MSA, the Council has one year from the date of this notification to prepare and submit an FMP, FMP amendment, or proposed regulations to address the overfishing condition of the yellowfin tuna stock.

Sincerely,

William L. Robinson,

Regional Administrator.

Dated: March 20, 2006.
Alan D. Risenhoover,
Acting Director, Office of Sustainable Fisheries, National Marine Fisheries Service.

[FR Doc. E6-4322 Filed 3-23-06; 8:45 am]

BILLING CODE 3510-22-P